DEPARTMENT OF VETERANS AFFAIRS

[OMB Control No. 2900-0092]

Agency Information Collection Activities Under OMB Review

AGENCY: Veterans Benefits Administration, Department of Veterans Affairs

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before June 4, 2004.

FOR FURTHER INFORMATION CONTACT: Denise McLamb, Records Management Service (005E3), Department of Veterans Affairs, 810 Vermont Avenue, NW., or e-mail denise.mclamb@mail.va.gov. Please refer to “OMB Control No. 2900-0092.” Send comments and recommendations concerning any aspect of the information collection to VA's OMB Desk Officer, OMB Human Resources and Housing Branch, New Executive Office Building, Room 10235, Washington, DC 20503 (202) 395-7316. Please refer to “OMB Control No. 2900-0092” in any correspondence.

SUPPLEMENTARY INFORMATION:

Title: Counseling Record—Personal Information, VA Form 28-1902.

OMB Control Number: 2900-0092.

Type of Review: Extension of a currently approved collection.

Abstract: Veterans and other beneficiaries complete VA Form 28-1902 to assist in an individualized counseling session or series of sessions. VA counselors (either a counseling psychologist or vocational rehabilitation counselor) use the information provided on form to evaluate veteran claimants and assist eligible veterans to plan a suitable program of vocational rehabilitation. If needed, VA must develop a program of assistance and services to improve the veteran's potential to participate in vocational rehabilitation and provide counseling services to help a veteran or other beneficiary eligible under another educational benefit chapter to select an educational, training, or employment objective.

An agency may not conduct or sponsor, and a person is not required to respond to a collection of information unless it displays a currently valid OMB control number. The Federal Register Notice with a 60-day comment period soliciting comments on this collection of information was published on November 5, 2003, at page 62664.

Affected Public: Individuals or households.

Estimated Annual Burden: 30,000 hours.

Estimated Average Burden Per Respondent: 30 minutes.

Frequency of Response: On occasion.

Estimated Number of Respondents: 60,000.

Dated: April 21, 2004.
By direction of the Secretary:
Loise Russell,
Director, Records Management Service.

[FR Doc. 04-10134 Filed 5-4-04; 8:45 am]

BILLING CODE 8320-01-P